DEPARTMENT OF HEALTH AND HUMAN SERVICES

Administration for Children and Families

Administration for Native Americans

AGENCY: Administration for Native Americans, ACF, HHS.

ACTION: Notice to Award Urgent Grants.

CFDA #: 93.612.

Legislative Authority: This award will be made pursuant to Section 803 of the Native American Programs Act of 1974.

Amount of Award: Six awards for a total of $649,404.

Project Period: Up to six months.

SUMMARY: This notice is to inform the public that the Administration for Native Americans (ANA) intends to announce six (6) urgent grant awards. The urgent grant awards will fund projects that are designed to mitigate the impact of the devastation created by the Southern California Wildfires of October 2007. As a result of the devastating wildfires that destroyed approximately 1,500 homes and 500,000 acres of land, ANA is providing urgent financial assistance to five Tribes and one Tribal Association to address a variety of restoration activities that include reforestation and revegetation, debris removal, erosion control and restoration, emergency planning and preparedness. Contained herein is a description of the projects to be funded:

• Rincon Band of Luiseno Indians ($114,977 for 6 months) This project will assist in the restoration of 4,250 acres of tribal lands with the planting of 6,750 cottonwood, sycamore, and oak seedlings to provide erosion control.

• Santa Ysabel Band of Diegueno Indians ($155,230 for 6 months) This project will protect existing properties, protect the health and safety of community members, and make 300 acres of the reservation less vulnerable to wildfires.

• La Jolla Band of Luiseno Indians ($150,353 for 6 months ) The goal of the project is to protect tribal residents from injury, death or displacement and reduce the possibility of damage or losses to existing assets, particularly critical facilities/infrastructures owned by the tribe. The project will clear four drainage channels of debris that currently present a fire/flooding threat.

• Mesa Grande Band of Mission Indians ($72,772 for 6 months) This project will insure the safety of tribal members and protect tribal assets through the thinning and clearing of fire prone debris on 280 acres of tribal land.

• Pauma Band of Mission Indians ($29,949 for 3 months) This project will stabilize the banks of Pauma Creek to protect lives and property on the Pauma Reservation by placing cut rock along the Pauma Creek banks to prevent flooding.

• Southern California Tribal Chairman's Association ($126,123 for 6 months) This project will restore connectivity to the rural Tribes in Southern California by reestablishing access of high speed internet services with the reconstruction of one tower, repair of a second tower, and the repair and replacement of power sources and radio equipment for three towers. It will also develop, print, and disseminate disaster prevention brochures to all tribal members of the Southern California Tribes to provide information and inform them of the real-time access to information through the Internet.

FOR FURTHER INFORMATION CONTACT: Christopher Beach, ANA Program Specialist, Administration for Native Americans, 370 L'Enfant Promenade, SW., Washington, DC 20047. Telephone: 877-922-9262, e-mail: Christopher.Beach@acf.hhs.gov.

Dated: April 7, 2008.
Quanah Crossland Stamps,
Commissioner, Administration for Native Americans.

[FR Doc. E8-7808 Filed 4-10-08; 8:45 am]

BILLING CODE 4184-01-P